DEPARTMENT OF COMMERCE

National Oceanic and Atmospheric Administration

[I.D. 073004B]

Notice of Meeting and Review of the Analytical Framework for Conducting Jeopardy Analyses Under the Endangered Species Act

AGENCY: National Marine Fisheries Service, National Oceanic and Atmospheric Administration, Commerce.

ACTION: Notice of Meeting

SUMMARY: The National Marine Fisheries Service is hosting a meeting to solicit constructive criticism from an expert panel on the analytical framework used for conducting jeopardy analyses under the Endangered Species Act.

DATES: The meeting will span three days from 8 a.m. to 5 p.m. each day, beginning Tuesday, August 24 and concluding on Thursday, August 26, 2004.

ADDRESSES: The meeting will be held in a conference room at the Four Points Sheraton Bethesda, 8400 Wisconsin Avenue, in Bethesda, MD.

SUPPLEMENTARY INFORMATION: The meeting will be facilitated and structured to allow panelists to ask questions and discuss ideas freely. Invited panelists have been asked to provide constructive criticism of the analytical framework for conducting jeopardy analyses under the Endangered Species Act and identify options for assessing species risk under varying circumstances. The meeting is open to the public, although space is limited. Interested persons may present comments, in writing, on the issues before the panel.

Written submissions will be accepted at the meeting and addressed during the meeting, as time allows, and in the meeting summary.

Special Accommodations

This meeting is accessible to people with disabilities or special needs. If you require special accommodations due to a disability, please contact us as soon as possible.

For additional information or to reserve a space at the meeting contact, Phil Williams, Chief of Endangered Species, Protected Resources, 1315 East West Highway, SSMC3, Silver Spring, MD 20910; telephone(301) 713-1401, or email phil.Williams@noaa.gov.

Dated: August 4, 2004.
Phil Williams,
Chief, Endangered Species Division, Office of Protected Resources, National Marine Fisheries Service.

[FR Doc. 04-18184 Filed 8-9-04; 8:45 am]

BILLING CODE 3510-22-S